DEPARTMENT OF ENERGY

Federal Energy Regulatory Commission

[Docket No. IC17-13-000]

Commission Information Collection Activity (FERC-717); Comment Request; Extension

AGENCY: Federal Energy Regulatory Commission.

ACTION: Comment request.

SUMMARY: In compliance with the requirements of the Paperwork Reduction Act of 1995, the Federal Energy Regulatory Commission (Commission or FERC) is submitting its information collection, FERC-717, (Open Access Same-Time Information System and Standards for Business Practices and Communication Protocol) which will be submitted to the Office of Management and Budget (OMB) for a review of the information collection requirements. Any interested person may file comments directly with OMB and should address a copy of those comments to the Commission as explained below. The Commission published Notice in the Federal Register in Docket No. IC17-13-000, (82 FR 37580, 8/11/2017) requesting public comments. FERC received no comments in response to the Notice and is indicating that in its submittal to the OMB.

DATES: Comments on the collection of information are due November 16, 2017.

ADDRESSES: Comments filed with OMB, identified by OMB Control No. 1902-0173, should be sent via email to the Office of Information and Regulatory Affairs: oira_submission@omb.gov. Attention: Federal Energy Regulatory Commission Desk Officer. The Desk Officer may also be reached via telephone at 202-395-0710.

A copy of the comments should also be sent to the Commission, in Docket No. IC17-13-000 by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-717, Open Access Same-Time information System and Standards for Business Practices and Communication Protocols.

OMB Control No.: 1902-0173.

Type of Request: Three-year approval of the FERC-717 information collection requirements with no changes to the current reporting requirements.

Abstract: The Commission directs all public utilities that own, control or operate facilities for transmitting energy in interstate commerce to provide certain types of information regarding their transmission operations on an Open Access Same-time Information System (OASIS). The Commission does not believe that open-access nondiscriminatory transmission services can be completely realized until it removes real-world obstacles that prevent transmission customers from competing effectively with the Transmission Provider. One of the obstacles is unequal access to transmission information. The Commission believes that transmission customers must have simultaneous access to the same information available to the Transmission Provider if truly nondiscriminatory transmission services are to be a reality.

The Commission also established Standards of Conduct requiring that personnel engaged in transmission system operations function independently from personnel engaged in marketing functions. The Standards of Conduct were designed to prevent employees of a public utility (or any of its affiliates) engaged in marketing functions from preferential access to OASIS-related information or from engaging in unduly discriminatory business practices. Companies were required to separate their transmission operations/reliability functions from their marketing/merchant functions and prevent system operators from providing merchant employees and employees of affiliates with transmission-related information not available to all customers at the same time through public posting on the OASIS.

Type of Respondents: Transmission Owners and Transmission Operators.

Estimate of Annual Burden: ¹ The Commission estimates an adjustment in the annual public reporting burden for the FERC-717. The adjustment is due to Transmission Providers being allowed to file responses jointly or individually. The Transmission Provider may delegate this responsibility to a Responsible Party such as another Transmission Provider, an Independent System Operator, a Regional Transmission Group, or a Regional Reliability Council. The number comprise two separate entities: Transmission Owners and Transmission Operators. The responses submitted are our best estimate of the Transmission Operators and remaining individual Transmission Owners. The rationale is that some Transmission Owners have elected to turn over operational control of their collective transmission systems to Transmission Operators, including RTOs/ISOs (as authorized in 18 CFR 37.5). These Transmission Operators offer OASIS access to the collective systems facilitating a single OASIS transmission request serving multiple transmission systems. As a result of these efficiency gains, the lower respondent count is appropriate.

¹ Burden is defined as the total time, effort, or financial resources expended by persons to generate, maintain, retain, or disclose or provide information to or for a Federal agency. For further explanation of what is included in the information collection burden, refer to 5 Code of Federal Regulations 1320.3.

As a result of the efficiency gains, and an overestimate of the respondents in our past request, we are submitting a more accurate number of respondents. The estimate below reflects the work associated with the current information collection requirements:

FERC-717, Open Access Same-Time Information System and Standards for Business Practices and Communication Protocols
Information collection requirements | Number of respondents | Annual number of responses per respondent | Total number of responses | Average burden hours and cost per response ² | Total annual burden hours and total annual cost
| (1) | (2) | (1) * (2) = (3) | (4) | (3) * (4) = (5)
FERC-717 | 170 | 1 | 170 | 30 hrs.; $2,295 | 5,100 hrs.; $390,150.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The Commission staff thinks that the average respondent for this collection is similarly situated to the Commission, in terms of salary plus benefits. Based upon FERC's 2017 annual average of $158,754 (for salary plus benefits), the average hourly cost is $76.50/hour.

Dated: October 11, 2017.
Kimberly D. Bose,
Secretary.

[FR Doc. 2017-22472 Filed 10-16-17; 8:45 am]

BILLING CODE 6717-01-P